DEPARTMENT OF HEALTH AND HUMAN SERVICES

Centers for Disease Control and Prevention

Disease, Disability, and Injury Prevention and Control Special Emphasis Panel (SEP): Initial Review

The meeting announced below concerns Human Immunodeficiency Virus (HIV) Prevention Projects for Young Men of Color Who Have Sex with Men and Young Transgender Persons of Color, Funding Opportunity Announcement (FOA) PS11-1113, initial review.

Correction: The notice was published in the Federal Register on July 7, 2011, Volume 76, Number 130, Page 39879. The place should read as follows:

Place: Hilton Atlanta Hotel, 255 Courtland Street, NE., Atlanta, Georgia 30303, Telephone: (404) 659-2000.

FOR FURTHER INFORMATION CONTACT: Harriette Lynch, Public Health Analyst, Extramural Programs, National Center for HIV, Hepatitis and Sexually Transmitted Diseases Prevention, CDC, 1600 Clifton Road, NE., Mailstop E-60, Atlanta, Georgia 30333, Telephone: (404)498-2726, E-mail: HLynch@cdc.gov.

The Director, Management Analysis and Services Office, has been delegated the authority to sign Federal Register notices pertaining to announcements of meetings and other committee management activities, for both the Centers for Disease Control and Prevention and the Agency for Toxic Substances and Disease Registry.

Dated: July 22, 2011.
Elaine L. Baker,
Director, Management Analysis and Services Office Centers for Disease Control and Prevention.

[FR Doc. 2011-19288 Filed 7-28-11; 8:45 am]

BILLING CODE 4163-18-P